DEPARTMENT OF TRANSPORTATION

Federal Aviation Administration

14 CFR Part 71

[Docket No. FAA-2003-16359; Airspace Docket No. 03-ASO-18]

Establishment of Class D Airspace; Hilton Head Island, SC; Correction

AGENCY: Federal Aviation Administration (FAA), DOT.

ACTION: Correcting amendment.

SUMMARY: This document contains a correction to the final rule (FAA-2003-16359; 03-ASO-18), which was published in the Federal Register on December 24, 2003, (68 FR 74471), establishing Class D airspace at Hilton Head Island, SC. This action corrects an error in the description of the Class D airspace in the Summary paragraph.

EFFECTIVE DATE: February 3, 2004.

FOR FURTHER INFORMATION CONTACT: Walter R. Cochran, Manager, Airspace Branch, Air Traffic Division, Federal Aviation Administration, P.O. Box 20636, Atlanta, Georgia 30320; telephone (404) 305-5627.

SUPPLEMENTARY INFORMATION:

Background

Federal Register Document 03-31743, Docket No. FAA-2003-16359; Airspace Docket 03-ASO-18, published on December 24, 2003 (68 FR 74471), establishes Class D airspace at Hilton Head Airport, Hilton Head Island, SC. An error was discovered in the Summary paragraph, describing the Class D airspace area. The description of the Class D airspace should be changed from airspace extending upward from the surface to and including 2,800 feet MSL within a 4.1-mile radius of the airport to airspace extending upward from the surface to and including 2,000 feet MSL within a 3.9-mile radius of the airport. This action corrects the error.

Designations for Class D airspace are published in Paragraph 5000 of FAA Order 7400.9L, dated September 2, 2003, and effective September 16, 2003, which is incorporated by reference in 14 CFR 71.1. The Class D airspace designation listed in this document will be published subsequently in the Order.

Need for Correction

As published, the final rule contains an error that incorrectly describes the size of the Class D airspace area. Accordingly, pursuant to the authority delegated to me, the Summary paragraph for the Class D airspace at Hilton Head Island, SC, incorporated by reference at § 71.1, 14 CFR 71.1, and published in the Federal Register on December 24, 2003, (68 FR 74471), is corrected by correcting the summary.

* * * * *

SUMMARY: This action establishes Class D airspace at Hilton Head Island, SC. A federal contract tower with a weather reporting system has been constructed at the Hilton Head Airport. Therefore, the airport meets criteria for Class D airspace. Class D surface area airspace is required when the control tower is open to contain Standard Instrument Approach Procedures (SIAPs) and other Instrument Flight Rules (IFR) operations at the airport. This action establishes Class D airspace extending upward from the surface to and including 2,000 feet MSL within a 3.9-mile radius of the airport.

* * * * *

Issued in College Park, Georgia January 9, 2004.
Jeffrey U. Vincent,
Acting Manager, Air Traffic Division, Southern Region.

[FR Doc. 04-2188 Filed 2-2-04; 8:45 am]

BILLING CODE 4910-13-M